AGENCY FOR INTERNATIONAL DEVELOPMENT

Analysis of Service Contract Inventory for FY 2021 and the Planned Analysis of the FY 2022 Inventory; Notice of Availability

AGENCY: United States Agency for International Development (USAID).

ACTION: Notice of public availability.

SUMMARY: Acting in compliance with section 743 of Division C of the Consolidated Appropriations Act of 2010, requiring civilian agencies to prepare and analyze inventories of their service contracts, the United States Agency for International Development (USAID) is publishing this notice to advise the public of the availability of the FY 2022 Service Contract Inventory found at https://www.acquisition.gov/content/service-contract-inventory, and the posting of the Analysis of Service Contract Inventory for FY 2021 and the Planned Analysis of the FY 2022 Inventory found at: https://www.usaid.gov/results-and-data/budget-spending/official-service-contract-inventory.

FOR FURTHER INFORMATION CONTACT: Questions regarding the service contract inventory should be directed to Eileen Simoes, Chief, Policy Division, Bureau for Management Policy, Budget and Performance, U.S. Agency for International Development, (202) 921-5090, esimoes@usaid.gov.

Susan C. Radford,
Management and Program Analyst, Bureau for Management Policy, Budget and Performance, U.S. Agency for International Development.

[FR Doc. 2023-23336 Filed 10-20-23; 8:45 am]

BILLING CODE 6116-01-P